DEPARTMENT OF HOMELAND SECURITY

Federal Emergency Management Agency

[Docket ID: FEMA-2024-0010]

Public Assistance Program and Policy Guide, FP 104-009-2

AGENCY: Federal Emergency Management Agency, Department of Homeland Security.

ACTION: Notice of availability.

SUMMARY: The Federal Emergency Management Agency (FEMA) is announcing availability of the final version of the Public Assistance Program and Policy Guide Version 5.0.

DATES: The policy will apply to incidents declared on or after January 6, 2025.

FOR FURTHER INFORMATION CONTACT: Robert Pesapane, Director, Public Assistance Division, Federal Emergency Management Agency, fema-recovery-pa-policy@fema.dhs.gov, (202) 646-3834.

SUPPLEMENTARY INFORMATION: This document announces the availability of Version 5.0 of the Public Assistance Program and Policy Guide (PAPPG). The PAPPG provides a comprehensive and streamlined guide for evaluating eligibility under the Public Assistance (PA) Program. It consolidates relevant policies into a single document, while also referencing external FEMA policies and resources to support stakeholders involved in the implementation of each step in the recovery process. The release of Version 5.0 reflects FEMA's continued commitment to improving access to the PA Program, reducing the documentation burden on our customers, and promoting timely recovery efforts. By integrating cost-effective hazard mitigation measures, Version 5.0 also helps facilitate resilient rebuilding in communities affected by disasters.

Version 5.0 is available in docket ID FEMA-2024-0010. For access to the docket go to https://www.regulations.gov and search for the docket ID. It is also available on FEMA's internet site, located at https://www.fema.gov/assistance/public.

Authority: The Robert T. Stafford Disaster Relief and Emergency Assistance Act, as amended (Stafford Act), 42 U.S.C. 5121 et seq.; 44 CFR part 206.

Deanne Criswell,
Administrator, Federal Emergency Management Agency.

[FR Doc. 2024-30084 Filed 1-3-25; 8:45 am]

BILLING CODE 9111-23-P